DEPARTMENT OF COMMERCE

National Oceanic and Atmospheric Administration

RIN 0648-XG880

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of its Social Science Planning Committee (SSPC) by teleconference.

DATES: The SSPC meeting will be held on Thursday, March 28, 2019, from 1 p.m. to 4 p.m. For the agenda, see SUPPLEMENTARY INFORMATION.

ADDRESSES: The meeting will be held by teleconference. The teleconference numbers are: U.S. toll-free: (888) 482-3560 or International Access: +1 (647) 723-3959, and Access Code: 5228220. The following venue will also be the host site for the teleconference: Council Office, 1164 Bishop Street, Suite 1400, Honolulu, HI 96813.

FOR FURTHER INFORMATION CONTACT: Kitty M. Simonds, Executive Director; telephone: (808) 522-8220.

SUPPLEMENTARY INFORMATION: Public comment periods will be provided. The order in which agenda items are addressed may change. The Committee will meet as late as necessary to complete scheduled business.

Agenda

Thursday, March 28, 2019, 1 p.m. to 4 p.m.

1. Introductions

2. Approval of Agenda

3. Annual/Stock Assessment and Fishery Evaluation Report Module Preparation

4. Review structure and process for considering Social Economic Ecological and Management information in setting of annual catch limits

5. Options to establish carry over provisions in setting annual catch limits

6. Public Comment

7. Discussion and Recommendations

8. Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 8, 2019.
Tracey L. Thompson,
Acting Deputy Director, Office of Sustainable Fisheries, National Marine Fisheries Service.

[FR Doc. 2019-04588 Filed 3-12-19; 8:45 am]

BILLING CODE 3510-22-P